Executive Order 13776 of February 9, 2017

Task Force on Crime Reduction and Public Safety

By the authority vested in me as President by the Constitution and the laws of the United States of America, and in order to reduce crime and restore public safety to communities across the Nation, it is hereby ordered as follows:

Section 1. Policy. It shall be the policy of the executive branch to reduce crime in America. Many communities across the Nation are suffering from high rates of violent crime. A focus on law and order and the safety and security of the American people requires a commitment to enforcing the law and developing policies that comprehensively address illegal immigration, drug trafficking, and violent crime. The Department of Justice shall take the lead on Federal actions to support law enforcement efforts nationwide and to collaborate with State, tribal, and local jurisdictions to restore public safety to all of our communities.

Sec. 2. Task Force. (a) In furtherance of the policy described in section 1 of this order, I hereby direct the Attorney General to establish, and to appoint or designate an individual or individuals to chair, a Task Force on Crime Reduction and Public Safety (Task Force). The Attorney General shall, to the extent permitted by law, provide administrative support and funding for the Task Force.

(b) The Attorney General shall determine the characteristics of the Task Force, which shall be composed of individuals appointed or designated by him.

(c) The Task Force shall:

(i) exchange information and ideas among its members that will be useful in developing strategies to reduce crime, including, in particular, illegal immigration, drug trafficking, and violent crime;

(ii) based on that exchange of information and ideas, develop strategies to reduce crime;

(iii) identify deficiencies in existing laws that have made them less effective in reducing crime and propose new legislation that could be enacted to improve public safety and reduce crime;

(iv) evaluate the availability and adequacy of crime-related data and identify measures that could improve data collection in a manner that will aid in the understanding of crime trends and in the reduction of crime; and

(v) conduct any other studies and develop any other recommendations as directed by the Attorney General.

(d) The Task Force shall meet as required by the Attorney General and shall be dissolved once it has accomplished the objectives set forth in subsection (c) of this section, as determined by the Attorney General.

(e) The Task Force shall submit at least one report to the President within 1 year from the date of this order, and a subsequent report at least once per year thereafter while the Task Force remains in existence. The structure of the report is left to the discretion of the Attorney General. In its first report to the President and in any subsequent reports, the Task Force shall summarize its findings and recommendations under subsections (c)(ii) through (c)(v) of this section.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 9, 2017.

[FR Doc. 2017-03118

Filed 2-13-17; 11:15 am]

Billing code 3295-F7-P